DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Bradley Smith, Director, tel.: 202-622-2490; Associate Director for Global Targeting, tel.: 202-622-2420; Assistant Director for Licensing, tel.: 202-622-2480; Assistant Director for Regulatory Affairs, tel.: 202-622-4855; or Assistant Director for Sanctions Enforcement, Compliance & Analysis, tel.: 202-622-2490.

SUPPLEMENTARY INFORMATION:

Electronic Availability

The SDN List and additional information concerning OFAC sanctions programs are available on OFAC's website (ofac.treasury.gov).

Notice of OFAC Action(s)

On January 25, 2024, OFAC determined that the property and interests in property subject to U.S. jurisdiction of the following persons are blocked under the relevant sanctions authority listed below.

Individuals

1. AL-ATIFI, Mohamed (a.k.a. AL-ATIFI, Mohammad; a.k.a. AL-ATIFI, Mohammed; a.k.a. AL-ATIFI, Muhammad Nasser), Yemen; DOB 1969; POB Bani Atef Village, Sanaa Governorate, Yemen; nationality Yemen; Gender Male; Secondary sanctions risk: section 1(b) of Executive Order 13224, as amended by Executive Order 13886 (individual) [SDGT].

Designated pursuant to section 1(a)(iii)(C) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or service to or in support of, an act of terrorism, as defined in section 3(d) of E.O. 13224, as amended.

2. AL-QADIRI, Muhammad Ali (a.k.a. AL-QADIRI, Muhammad; a.k.a. AL-QADRI, Muhammad), Yemen; DOB 1970; POB Hudaydah Governorate, Yemen; nationality Yemen; Gender Male; Secondary sanctions risk: section 1(b) of Executive Order 13224, as amended by Executive Order 13886 (individual) [SDGT].

Designated pursuant to section 1(a)(iii)(C) of E.O. 13224, as amended, for having materially assisted, sponsored, or provided financial, material, or technological support for, or goods or service to or in support of, an act of terrorism, as defined in section 3(d) of E.O. 13224, as amended.

3. AL-TALIBI, Muhammad Ahmad (a.k.a. “AL-TALIBI, Abi Ja'far”), Yemen; DOB 01 Jan 1983; POB Dhahyan, Sa'dah, Yemen; nationality Yemen; Gender Male; Secondary sanctions risk: section 1(b) of Executive Order 13224, as amended by Executive Order 13886; Passport 01197425 (Yemen) (individual) [SDGT].

Designated pursuant to section 1(a)(iii)(C) of E.O. 13224, as amended, for having materially assisted, sponsored, or provided financial, material, or technological support for, or goods or service to or in support of, an act of terrorism, as defined in section 3(d) of E.O. 13224, as amended.

4. AL-NABI, Muhammad Fadl Abd (a.k.a. NABI, Mohammed Fadl Abdul), Yemen; DOB 01 Jan 1952; nationality Yemen; Gender Male; Secondary sanctions risk: section 1(b) of Executive Order 13224, as amended by Executive Order 13886 (individual) [SDGT].

Designated pursuant to section 1(a)(iii)(C) of E.O. 13224, as amended, for having materially assisted, sponsored, or provided financial, material, or technological support for, or goods or service to or in support of, an act of terrorism, as defined in section 3(d) of E.O. 13224, as amended.

Dated: January 25, 2024.
Bradley T. Smith,
Director, Office of Foreign Assets Control, U.S. Department of the Treasury.

[FR Doc. 2024-01775 Filed 1-29-24; 8:45 am]

BILLING CODE 4810-AL-P